DEPARTMENT OF COMMERCE

Bureau of Industry and Security

Regulations and Procedures Technical Advisory Committee; Notice of Open Meeting

The Regulations and Procedures Technical Advisory Committee will meet on December 7, 2004, 9 a.m., Room 3884, in the Herbert C. Hoover Building, 14th Street between Constitution and Pennsylvania Avenue, NW., Washington, DC. The Committee advises the Office of the Assistant Secretary for Export Administration on implementation of the Export Administration Regulations (EAR) and provides for continuing review to update the EAR as needed.

Agenda

1. Opening remarks by the Chairman.

2. Presentation of papers or comments by the public.

3. Update on regulations.

4. Discussion on interim rule on expansion of missile-related end-use/user controls.

5. Discussion on proposed rule on “knowledge”, “red flags”, and safe harbor”.

6. Update on computer and microprocessor technology controls.

7. Update on encryption controls.

8. Update on country group revision project.

9. Update on Excluded Parties Listing Systems (EPLS).

10. Update on Automated Export System (AES).

11. Reports from working groups.

The meeting will be open to the public and a limited number of seats will be available. Reservations are not accepted. To the extent time permits, members of the public may present oral statements to the Committee. Written statements may be submitted at any time before or after the meeting. However, to facilitate distribution of public presentation materials to Committee members, the Committee suggests that presenters forward the public presentation materials to Lee Ann Carpenter at Lcarpent@bis.doc.gov.

For more information contact Ms. Carpenter on (202) 482-2583.

Dated: November 16, 2004.
Lee Ann Carpenter,
Committee Liaison Officer.

[FR Doc. 04-25730 Filed 11-18-04; 8:45 am]

BILLING CODE 3510-JT-M